DEPARTMENT OF HOMELAND SECURITY

Federal Emergency Management Agency

[Docket ID FEMA-2013-0012; OMB No. 1660-NEW]

Agency Information Collection Activities; Proposed Collection; Comment Request: Community Drill Day Registration

AGENCY: Federal Emergency Management Agency, DHS.

ACTION: Notice; correction

On April 18, 2013 the Federal Emergency Management Agency (FEMA) published an agency information collection notice in the Federal Register at 78 FR 23276. In the ADDRESSES section, FEMA inadvertently listed the Docket ID as FEMA-2010-0012. The correct Docket ID is FEMA-2013-0012.

Dated: April 18, 2013.
Charlene D. Myrthil,
Director, Records Management Division, Mission Support Bureau, Federal Emergency Management Agency, Department of Homeland Security.

[FR Doc. 2013-09666 Filed 4-23-13; 8:45 am]

BILLING CODE 9111-27-P